OFFICE OF THE UNITED STATES TRADE REPRESENTATIVE

Procedures for Further Consideration of Requests (Anniversary) and Objections to Requests for Exclusion of Particular Products From Actions With Regard to Certain Steel Products Under Section 203 of the Trade Act of 1974, as Established in Presidential Proclamation 7529 of March 5, 2002

AGENCY: Office of the United States Trade Representative.

ACTION: Notice.

SUMMARY: In a notice published on October 26, 2001 (66 FR 54321) (notice), the Trade Policy Staff Committee (TPSC) established procedures for interested persons to request the exclusion of particular products from any action the President might take under section 203 of the Trade Act of 1974, as amended, (19 U.S.C. 2253) (Trade Act) with regard to certain steel products. Presidential Proclamation 7529 of March 5, 2002, established such actions with regard to certain steel products (safeguard measures), but excluded some of the particular products identified in requests for exclusion made in response to the notice. See 67 FR 10553 (March 7, 2002). Proclamation 7529 authorized the United States Trade Representative (USTR) in March of each year in which any of the safeguard measures remain in effect to further exclude particular products from the pertinent safeguard measure established by the proclamation. The USTR is modifying procedures established on November 19, 2002 (67 FR 69802) for further consideration of such exclusion requests.

Availability of Completed Requestor Questionnaires. Public versions of completed exclusion requestor questionnaires for the Anniversary Round of Exclusion Review are available for examination at the Department of Commerce's Central Records Unit (CRU): U.S. Department of Commerce, CRU HCHB, Room B099, 14th St. & Pennsylvania Ave., NW., Washington, DC 20230.

These questionnaires have not yet been fully reviewed for sufficiency but are being made available to facilitate public response. The filing of requests in CRU does not indicate, in itself, whether the submissions are sufficient with regard either to form or substance.

Deficient Exclusion Requests. In order for an exclusion request to be considered, it must be initiated for objectors' comments through an announcement in one of the tranches noted above. Exclusion requests will be initiated only if they are determined sufficient for comment.

The Office of the U.S. Trade Representative (USTR) and the U.S. Department of Commerce (Commerce) are reviewing each exclusion request to determine whether it is sufficient to initiate. In the case of a deficient exclusion request, Commerce will transmit by e-mail a notice to the submitting party that briefly summarizes the nature of the deficiency and/or requests supplemental information. USTR and Commerce will otherwise make no comment on the merits of an exclusion request. Commerce will notify requestors of deficient requests no later than the close of business on January 6, 2003. Exclusion requesters will have 10 days from the date of transmission of the deficiency notice to remedy the submission by filing a correction or submitting requested supplemental information. A requestor's failure to respond to the deficiency notice likely will result in the exclusion request being rejected and not initiated for review.

Opportunity for Objector Comments on Initiated Exclusion Requests. Lists of exclusion requests that are determined to be sufficient for objector comments will be announced and initiated in weekly tranches. The first tranche will be announced on Monday, January 6, 2003, with comments from interested parties due on Wednesday, January 22, 2003. The second tranche will be announced on Monday, January 13, with comments due on Wednesday, January 29, 2003. The third tranche will be announced on Tuesday, January 21, with comments due on Wednesday, February 5, 2003. The fourth tranche will be announced on Monday, January 27, with comments due on Wednesday, February 12, 2003. Commerce and USTR have developed a series of questions designed to substantiate any objections. These questions, presented in the form of an objector questionnaire, are available on the USTR Web site at http://www.ustr.gov/sectors/industry/steel.shtml. If an objector questionnaire with regard to a particular exclusion request has not been received by the date established, Commerce and USTR will assume that the domestic industry does not object to the exclusion of that particular product. Under extenuating circumstances, Commerce and USTR may revise the above schedule and will announce the changes on USTR's Web site.

Meetings with the Department of Commerce and the Office of the U.S. Trade Representative. Commerce and USTR will provide an opportunity for meetings with interested persons beginning in the latter half of January 2003 to review the submissions related to exclusion requests. Interested persons who wish to request such a meeting should contact Commerce by electronic mail at exclusion_support@ita.doc.gov with a copy to USTR at astephens@ustr.gov. If the number of meetings requested exceeds the time available for such meetings, priority will be given to meetings regarding exclusion requests that, in the opinion of USTR and Commerce, require further inquiry.

FOR FURTHER INFORMATION CONTACT: Please send inquiries regarding the exclusion process by e-mail simultaneously to: exclusion_support@ita.doc.gov and FR001@ustr.gov. You may also contact the Office of Industry and Telecommunications, Office of the United States Trade Representative, 600 17th Street, NW., Room 501, Washington DC, 20508. Telephone (202) 395-5656.

SUPPLEMENTARY INFORMATION: On March 5, 2002, pursuant to section 203 of the Trade Act of 1974, as amended (the Trade Act) (19 U.S.C. 2253), the President issued Proclamation 7529 (67 FR 10553), which imposed tariffs and a tariff-rate quota on (a) certain flat steel, consisting of: Slabs, plate, hot-rolled steel, cold-rolled steel, and coated steel; (b) hot-rolled bar; (c) cold-finished bar; (d) rebar; (e) certain tubular products; (f) carbon and alloy fittings; (g) stainless steel bar; (h) stainless steel rod; (i) tin mill products; and (j) stainless steel wire, as provided for in subheadings 9903.72.30 through 9903.74.24 of the Harmonized Tariff Schedule of the United States (HTS) (safeguard measures) for a period of three years plus 1 day.

Proclamation 7529 delegated to the USTR the authority, in March of each year in which any safeguard measure established by the proclamation remains in effect, upon publication in the Federal Register of a notice of his finding that a particular product should be excluded, to modify the HTS provisions created by the Annex to the proclamation to exclude such particular product from the pertinent safeguard measure established by the proclamation. This Federal Register notice provides further notice of the procedures for the consideration of these anniversary exclusion requests.

Each exclusion request will be evaluated on a case-by-case basis. Only those exclusions that do not undermine the objectives of the safeguard measures will be granted. Analysis of the requests will include consideration of whether the product is currently being produced in the United States, whether substitution of the product is possible, whether qualification requirements affect the requester's ability to use domestic products, current inventory levels, whether the requested product is under development by a U.S. producer who will imminently be able to produce it in marketable quantities, and any other relevant factors.

Paperwork Reduction Act: This notice contains a collection of information provision subject to the Paperwork Reduction Act (PRA) that the Office of Management and Budget (OMB) has approved. Notwithstanding any other provision of law, no person is required to respond to nor shall a person be subject to a penalty for failure to comply with a collection of information subject to the requirements of the PRA unless that collection of information displays a currently valid OMB number. This notice's collection of information burden is only for those persons who wish voluntarily to request the exclusion of a product from the safeguard measures. It is expected that the collection of information burden will be no more than 20 hours. This collection of information contains no annual reporting or record keeping burden. OMB approved this collection of information under OMB Control Number 0350-0011. Please send comments regarding the collection of information burden or any other aspect of the information collection to USTR at the address above.

Robert B. Zoellick,
United States Trade Representative.

[FR Doc. 02-33002 Filed 12-30-02; 8:45 am]

BILLING CODE 3190-01-P